SECURITIES AND EXCHANGE COMMISSION

Sunshine Act Meetings

TIME AND DATE: Notice is hereby given, pursuant to the provisions of the Government in the Sunshine Act, Pub. L. 94-409, the Securities and Exchange Commission will hold an Open Meeting on Wednesday, September 30, 2020 at 10:00 a.m.

PLACE: The meeting will be held via remote means and/or at the Commission's headquarters, 100 F Street, NE, Washington, DC 20549.

STATUS: This meeting will begin at 10:00 a.m. (ET) and will be open to the public via audio webcast only on the Commission's website at www.sec.gov.

MATTERS TO BE CONSIDERED: The Commission will consider whether to propose amendments to Regulation ATS under the Securities Exchange Act of 1934 for alternative trading systems (“ATSs”) that would, among other things, eliminate an exemption from compliance with Regulation ATS for ATSs that trade government securities, require ATSs that trade government securities to file a new public form, apply the fair access rule under Rule 301(b)(5) of Regulation ATS to ATSs that meet certain volume thresholds for U.S. Treasury securities and agency securities, and require the electronic filing of Form ATS and Form ATS-R; and propose amendments to Regulation SCI to apply to ATSs that meet certain volume thresholds for U.S. Treasury securities and agency securities. The Commission will also consider whether to issue a concept release on the regulatory framework for electronic platforms that trade corporate debt and municipal securities.

CONTACT PERSON FOR MORE INFORMATION: For further information and to ascertain what, if any, matters have been added, deleted or postponed, please contact Vanessa A. Countryman, Office of the Secretary, at (202) 551-5400.

Dated: September 23, 2020.
Vanessa A. Countryman,
Secretary.

[FR Doc. 2020-21419 Filed 9-24-20; 11:15 am]

BILLING CODE 8011-01-P